INTERNATIONAL TRADE COMMISSION

[Investigation Nos. 731-TA-1387-1391 (Final)]

Polyethylene Terephthalate Resin From Brazil, Indonesia, Korea, Pakistan, and Taiwan; Determinations

On the basis of the record ¹ developed in the subject investigations, the United States International Trade Commission (“Commission”) determines, pursuant to the Tariff Act of 1930 (“the Act”), that an industry in the United States is not materially injured or threatened with material injury by reason of imports of polyethylene terephthalate (“PET”) resin from Brazil, Indonesia, Korea, Pakistan, and Taiwan that have been found by the U.S. Department of Commerce (“Commerce”) to be sold in the United States at less than fair value (“LTFV”).2 3

¹ The record is defined in sec. 207.2(f) of the Commission's Rules of Practice and Procedure (19 CFR 207.2(f)).

² 83 FR 48278-48289 (September 24, 2018).

³ Whether the establishment of an industry in the United States is materially retarded is not an issue in these investigations.

Background

The Commission, pursuant to section 735(b) of the Act (19 U.S.C. 1673d(b)), instituted these investigations effective September 26, 2017, following receipt of petitions filed with the Commission and Commerce by DAK Americas LLC, Charlotte, North Carolina; Indorama Ventures USA, Inc., Decatur, Alabama; M&G Polymers USA, LLC, Houston, Texas; and Nan Ya Plastics Corporation, America, Lake City, South Carolina. The Commission scheduled the final phase of the investigations following notification of preliminary determinations by Commerce that imports of PET resin from Brazil, Indonesia, Korea, Pakistan, and Taiwan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of June 6, 2018 (53 FR 26306). The hearing was held in Washington, DC, on September 13, 2018, and all persons who requested the opportunity were permitted to appear in person or by counsel.

The Commission made these determinations pursuant to section 735(b) of the Act (19 U.S.C. 1673d(b)). It completed and filed its determinations in these investigations on November 6, 2018. The views of the Commission are contained in USITC Publication 4835 (November 2018), entitled Polyethylene Terephthalate Resin from Brazil, Indonesia, Korea, Pakistan, and Taiwan: Investigation Nos. 731-TA-1387-1391 (Final).

By order of the Commission.
Issued: November 6, 2018.
Lisa Barton,
Secretary to the Commission.

[FR Doc. 2018-24621 Filed 11-9-18; 8:45 am]

BILLING CODE 7020-02-P